DEPARTMENT OF ENERGY

Federal Energy Regulatory Commission

[Docket No. RP95-409-011]

Northwest Pipeline Corporation; Notice of Compliance Filing

July 31, 2001.

Take notice that on July 26, 2001, Northwest Pipeline Corporation (Northwest) tendered for filing as part of its FERC Gas Tariff, the tariff sheets listed in Appendix A to the filing.

Northwest states that a number of tariff sheets which apply to the period from February 1, 1996 through February 28, 1997 during which Northwest's rates as established in Docket No. RP95-409 are applicable.

Northwest states that the purpose of this filing is to comply with the Commission's June 1, 1999, September 29, 2000 and July 11, 2001 Orders in Docket No. RP95-409-000. Northwest states that its compliance filing is consistent with the Commission's Orders and directives that have been issued with respect to the Docket No. RP95-409-000 proceeding.

Northwest states that a copy of this filing has been served upon each person designated on the official service list compiled by the Secretary in this proceeding.

Any person desiring to protest said filing should file a protest with the Federal Energy Regulatory Commission, 888 First Street, N.E., Washington, D.C. 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-19536 Filed 8-2-01; 8:45 am]

BILLING CODE 6717-01-P